NUCLEAR REGULATORY COMMISSION

[NRC-2015-0188]

Use of Accreditation in Lieu of Commercial Grade Surveys for Procurement of Laboratory Calibration and Test Services

AGENCY: Nuclear Regulatory Commission.

ACTION: Regulatory issue summary; issuance.

SUMMARY: The U.S. Nuclear Regulatory Commission (NRC) is issuing Regulatory Issue Summary (RIS) 2016-01, “Nuclear Energy Institute Guidance for the use of Accreditation in Lieu of Commercial Grade Surveys for Procurement of Laboratory Calibration and Test Services.” This RIS informs addressees of guidance prepared by the Nuclear Energy Institute for procurement of calibration and testing services performed by domestic and international laboratories, which the NRC staff has found acceptable for use.

DATES: The RIS is available as of April 14, 2016.

ADDRESSES: Please refer to Docket ID NRC-2015-0188 when contacting the NRC about the availability of information regarding this document. You may obtain publicly-available information related to this document using any of the following methods:

• Federal Rulemaking Web site: Go to http://www.regulations.gov and search for Docket ID NRC-2015-0188. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The NRC RIS, “Nuclear Energy Institute Guidance for the use of Accreditation in Lieu of Commercial Grade Surveys for Procurement of Laboratory Calibration and Test Services” is available in ADAMS under Accession No. ML15323A346. The NRC staff's responses to comments are available in ADAMS under Accession No. ML15323A345.

• NRC's PDR: You may examine and purchase copies of public documents at the NRC's PDR, Room O1-F21, One White Flint North, 11555 Rockville Pike, Rockville, Maryland 20852.

• This RIS is also available on the NRC's public Web site at http://www.nrc.gov/reading-rm/doc-collections/gen-comm/reg-issues/ (select “2016” and then select “RIS-16-01”).

FOR FURTHER INFORMATION CONTACT: Alexandra Popova, Office of Nuclear Reactor Regulation, U.S. Nuclear Regulatory Commission, Washington DC 20555-0001; telephone: 301-415-2876, email: Alexandra.Popova@nrc.gov.

SUPPLEMENTARY INFORMATION: The NRC published a notice of opportunity for public comment on this RIS in the Federal Register (80 FR 47957) on August 10, 2015. The agency received comments from nine commenters. The staff considered all comments, which resulted in clarifications to the RIS. The evaluation of these comments and the resulting changes to the RIS are discussed in a publicly available memorandum which is in ADAMS under Accession No. ML15323A345.

Dated at Rockville, Maryland, this 6th day of April 2016.
For the Nuclear Regulatory Commission.
Sheldon D. Stuchell,
Chief, Generic Communications Branch, Division of Policy and Rulemaking, Office of Nuclear Reactor Regulation.

[FR Doc. 2016-08589 Filed 4-13-16; 8:45 am]

BILLING CODE 7590-01-P